DEPARTMENT OF HEALTH AND HUMAN SERVICES

Administration for Children and Families

Submission for OMB Review; Comment Request

Title: IRS Project 1099.

OMB No.: 0970-0183.

Description: A Voluntary program which provides States' Child Support Enforcement agencies, upon their request access to the earned and unearned income information reported to IRS by employers and financial institutions. The IRS 1099 information is used to locate noncustodial parents and to verify income and employment.

Respondents: State IV-D programs.

Annual Burden Estimates
Reporting | Number of respondents | Number of responses per respondent | Average burden per response (in hours) | Total burden hours
States | 12 | 12 | 2 | 288

Estimated Total Annual Burden: 288.

Additional Information: Copies of the proposed collection may be obtained by writing to the Administration for Children and Families, Office of Information Services, Division of Information Resource Management Services, 370 L'Enfant Promenade, SW., Washington, DC 20447, Attn: ACF Reports Clearance Officer.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, 725 17th Street, NW., Washington, DC 20503, Attn: Ms. Laura Oliven.

Dated: October 25, 2001.
Bob Sargis,
Acting Reports Clearance Officer.

[FR Doc. 01-27351 Filed 10-30-01; 8:45 am]

BILLING CODE 4184-01-M